DEPARTMENT OF ENERGY

Federal Energy Regulatory Commission

[Docket No. CP03-31-000]

Paiute Pipeline Company; Notice of Site Visit

March 19, 2003.

On March 26, 2003, the staff of the Office of Energy Projects will participate in a site visit to the area proposed for construction of natural gas pipeline facilities by Paiute Pipeline Company for its Carson Lateral Replacement Project, in Lyon, Douglas, Carson City, and Washoe Counties, Nevada.

The site visit will begin at 8 am from the Carson City Field Office of the U.S. Bureau of Land Management, 5665 Morgan Hill Road, Carson City, Nevada. All interested parties may attend the site visit. Those planning to attend must provide their own transportation. Anyone interested in additional information on the site visit may contact the Commission's Office of External Affairs at 1-866-208-FERC.

Magalie R. Salas,
Secretary.

[FR Doc. 03-7211 Filed 3-25-03; 8:45 am]

BILLING CODE 6717-01-P